NATIONAL AERONAUTICS AND SPACE ADMINISTRATION

[Notice: 24-021]

National Space-Based Positioning, Navigation, and Timing Advisory Board; Meeting

AGENCY: National Aeronautics and Space Administration.

ACTION: Notice of meeting.

SUMMARY: In accordance with the Federal Advisory Committee Act, as amended, the National Aeronautics and Space Administration (NASA) announces a meeting of the National Space-Based Positioning, Navigation and Timing (PNT) Advisory Board. This will be the 30th meeting of the PNT Advisory Board.

DATES: Wednesday, April 24, 2024, from 9:00 a.m.-6:00 p.m., Mountain Time; and Thursday, April 25, 2024, from 9:00 a.m.-12:30 p.m., Mountain Time.

ADDRESSES: The Antler Hotel; 4 South Cascade Avenue, Colorado Springs, CO 80903.

FOR FURTHER INFORMATION CONTACT: Mr. James Joseph Miller, Designated Federal Officer, PNT Advisory Board, Space Operations Mission Directorate, NASA Headquarters, Washington, DC 20546, (202) 262-0929 or jj.miller@nasa.gov.

SUPPLEMENTARY INFORMATION: This meeting will be open to the public up to the capacity of the meeting room. In-person attendees will be requested to sign a register prior to entrance to the proceedings. Webcast details to watch the meeting remotely will be available on the PNT Advisory Board website at: www.gps.gov/governance/advisory/.

The agenda for the meeting will include the following:

○ Motivation for Protect, Toughen, and Augment (PTA) of GPS/GNSS for all Users

○ Protecting GPS/GNSS Use

○ Toughening GPS/GNSS

○ Augmenting GPS/GNSS

○ Comparison of the Capabilities of GNSSs

○ Updates From International Members and Representatives

○ Deliberations and Discussion on Next Steps

○ Other PNT Advisory Board Business

For further information, visit the PNT Advisory Board website at: https://www.gps.gov/governance/advisory/.

It is imperative that the meeting be held on this date to meet the scheduling availability of key participants.

Carol J. Hamilton,
Acting Advisory Committee Management Officer, National Aeronautics and Space Administration.

[FR Doc. 2024-06300 Filed 3-25-24; 8:45 am]

BILLING CODE 7510-13-P